DEPARTMENT OF COMMERCE

Census Bureau

Proposed Information Collection; Comment Request; Census Barriers, Attitudes, and Motivators Survey (CBAMS) 2020

AGENCY: U.S. Census Bureau, Department of Commerce.

ACTION: Notice.

SUMMARY: The Department of Commerce, as part of its continuing effort to reduce paperwork and respondent burden, invites the general public and other Federal agencies to take this opportunity to comment on proposed and/or continuing information collections, under the provisions of the Paperwork Reduction Act.

DATES: To ensure consideration, written comments must be submitted on or before 30 days from publishing.

ADDRESSES: Direct all written comments to Jennifer Jessup, Departmental Paperwork Clearance Officer, Department of Commerce, Room 6616, 14th and Constitution Avenue NW, Washington, DC 20230 (or via the Internet at PRAcomments@doc.gov).

FOR FURTHER INFORMATION CONTACT: Requests for additional information and instructions should be directed to Gina Walejko at 301-763-1643 or by email to gina.k.walejko@census.gov or by contacting Monica Vines at 301-763-8813 or by email to monica.j.vines@census.gov.

SUPPLEMENTARY INFORMATION:

I. Abstract

The U.S. Census Bureau plans to request clearance to conduct the Census Barriers, Attitudes, and Motivators Survey (CBAMS) to measure public knowledge, awareness, and perceptions about the decennial census as well as behaviors and attitudes related to participating in the decennial census. This research will complement previous iterations of surveys designed to gauge public knowledge, attitudes, and behavior regarding the decennial censuses, as well as inform the strategic direction of the Census Bureau's 2020 Census Integrated Partnership and Communications (IPC) Program. While results are integral to designing the 2020 IPC, they will also be used to better understand the Census Bureau's audiences, to communicate with the public regarding other data collections, and to improve our communications and outreach materials (e.g., data products, Web sites, etc.).

Once every ten years, the Census Bureau conducts an enumeration of the United States, Puerto Rico, and U. S. territories populations and housing. It is an extremely complex undertaking that requires the participation of every household in the country, reaching people from the most remote Alaskan villages to the most crowded inner cities. The role of the IPC is to increase public awareness and motivate people to self-respond to the census promptly.

The Census Bureau developed the 2010 Census Integrated Communications Campaign (ICC) in an effort to build on the success of the Census 2000 Partnership and Marketing Program. The ICC was multi-targeted, multi-media, and multi-lingual, using traditional media like television, radio, print, and out-of-home, as well as new media, such as blogs, social media, and other online efforts, and non-traditional media like food trucks, ethnic stores, and restaurants.

The Census Bureau is planning a 2020 Census that will provide more ways to self-respond—paper, Internet, and telephone. To support this goal, the IPC will create a communications campaign with messages and media plans developed for specific audience segments with unique response behaviors, attitudes, and demographics. Targeted messages and the selection of the unique channels that these specific audiences consume will almost guarantee the visibility this campaign needs among target audiences. These audience segments will be developed using 2010 Census and American Community Survey (ACS) participation data as well as measures of knowledge, attitudes, barriers, and motivators to 2010 decennial participation documented in past CBAMS surveys. However, the environmental landscape has shifted since the Census 2010, and the Census Bureau is facing new challenges. CBAMS 2020, in conjunction with the analysis of other data sources, will measure current barriers to census data collection including:

• Distrust in federal, state and local government entities,

• Concerns about privacy and confidentiality,

• Lack of census familiarity and knowledge, and

• Limits of Internet penetration and use.

The immediate purpose of CBAMS 2020 is to inform message development and media planning for the IPC with the ultimate goal of increasing self-response, though results will inform across the board improvements in customer communications where possible. Although collected data will not be used to produce official Census Bureau estimates, the Census Bureau will publish a report detailing results and explaining by whom this data will be used. This report will in no way identify individuals.

Method of Collection

CBAMS 2020 will be administered to a sample of addresses. First, a pre-notification letter will notify addresses of the data collection. Later mailings will give addresses a choice of filling out the survey online or via a mailed paper questionnaire. Non-responding households will be mailed reminders, and flagged-Hispanic households will receive a two-sided letter in both English and Spanish. This protocol provides no follow-up to nonrespondents in person or by phone. CBAMS 2020 will test the use of $2, $5, and $10 gifts provided to sample members to increase the response rate. All participants will receive a monetary incentive, but the dollar amount will vary. CBAMS 2020 survey will focus on the following topic areas:

• Awareness and familiarity with the decennial census;

• Likelihood to participate in the decennial census;

• Attitudinal, personal, and community motivators related to decennial census participation;

• Barriers to decennial census participation;

• Internet use and skills;

• Knowledge related to the decennial census;

• Trust in federal, state and local government entities;

• Civic participation;

• Media use; and

• Sociodemographic characteristics.

For more information, please contact Gina Walejko at 301-763-1643 or by email to gina.k.walejko@census.gov or by contacting Monica Vines at 301-763-8813 or by email to monica.j.vines@census.gov.

II. Data

Office of Management and Budget (OMB) Control Number: 0607-0978.

Form Number: N/A.

Type of Review: Nonsubstantive change request.

Affected Public: Individuals.

Estimated Number of Respondents: 35,000.

Estimated Time per Response: 25 minutes.

Estimated Total Annual Burden Hours: Approximately 14,600 hours.

Estimated Total Annual Cost: There is no cost to the respondents other than their time.

Confidentiality: Yes, Title 13 U.S.C. Section 9 confidentiality applies to the information the respondent provides.

Legal Authority: Title 13 U.S.C. Section 182.

III. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Written comments and recommendations on this collection should be sent within 30 days of publication of this notice to PRAcomments@doc.gov.

Sheleen Dumas,
Departmental PRA Lead, Office of the Chief Information Officer.

[FR Doc. 2017-17304 Filed 8-15-17; 8:45 am]

BILLING CODE 3510-07-P